DEPARTMENT OF ENERGY

Federal Energy Regulatory Commission

Notice of Effectiveness of Exempt Wholesale Generator Status

| Docket Nos.
Wagon Trail Energy Center, LLC | EG26-1-000
Solar PV Development NM 18 II LLC | EG26-2-000
Nighthawk Energy Storage, LLC | EG26-3-000
Atlas VIII, LLC | EG26-4-000
Beehive Energy Storage, LLC | EG26-5-000
Halifax County Solar LLC | EG26-6-000
IP Quantum BESS, LLC | EG26-7-000
IP Quantum, LLC | EG26-8-000
IP Quantum II BESS, LLC | EG26-9-000
IP Quantum II, LLC | EG26-10-000
Daylight II, LLC | EG26-11-000
Daylight II-A, LLC | EG26-12-000
Daylight III, LLC | EG26-13-000
EdSan 2 Solar Storage, LLC | EG26-14-000
EdSan MV Holding Company C, LLC | EG26-15-000
UGID Broad Mountain, LLC | EG26-17-000
Medway Grid, LLC | EG26-18-000
Justice Energy Storage, LLC | EG26-19-000
Babacomari Solar North LLC | EG26-20-000
Wattmore Lincoln Energy Storage, LLC | EG26-21-000
Dodge Flat Energy Center, LLC | EG26-22-000
Apple Infra LLC | EG26-23-000
Backbone Creek BESS LLC | EG26-24-000
SMT McAllen II LLC | EG26-25-000
Carne Energy Storage, LLC | EG26-26-000
Heartwood Solar, LLC | EG26-27-000
Buda Infra LLC | EG26-28-000
County Rd Infra LLC | EG26-29-000
Elm St Infra LLC | EG26-30-000
Hwy 6 Infra LLC | EG26-31-000
Blanquilla BESS LLC | EG26-32-000
Chalan CA Solar Storage, LLC | EG26-33-000
Danville VA BESS 2 LLC | EG26-34-000
Essex VT BESS 1 LLC | EG26-35-000
Holyoke MA BESS 1 LLC | EG26-36-000
Ipswich BESS 1 LLC | EG26-37-000
Archtop Property Management, LLC | EG26-38-000
Long Beach Generation LLC | EG26-39-000
MRG Goody Solar Project, LLC | EG26-40-000
Chalk Bluff Solar Energy LLC | EG26-41-000

Take notice that during the month of December 2025, the status of the above-captioned entities as Exempt Wholesale Generators became effective by operation of the Commission's regulations. 18 CFR 366.7(a) (2025).

(Authority: 18 CFR 2.1)

Dated: January 7, 2026.
Debbie-Anne A. Reese,
Secretary.

[FR Doc. 2026-00436 Filed 1-12-26; 8:45 am]

BILLING CODE 6717-01-P